DEPARTMENT OF AGRICULTURE

Rural Utilities Service

7 CFR Part 1738

RIN 0572-AB81

Rural Broadband Access Loans and Loan Guarantees

AGENCY: Rural Utilities Service, USDA.

ACTION: Notice of confirmation of direct final rule.

SUMMARY: The Rural Utilities Service (RUS), an agency delivering the United States Department of Agriculture's Rural Development Utilities Programs, gives notice that no adverse comments were received regarding the direct final rule amending its regulations to revise the definition for “eligible rural community” as it relates to the rural access broadband loans and loan guarantees program, and confirms the effective date of the direct final rule.

DATES: The direct final rule published in the Federal Register on April 4, 2005, (70 FR 16930) was effective on May 19, 2005.

FOR FURTHER INFORMATION CONTACT: Jonathan Claffey, Acting Assistant Administrator, Telecommunications Program, Rural Utilities Service, U.S. Department of Agriculture, 1400 Independence Avenue, SW., STOP 1590, Room 4056, Washington, DC 20250-1590. Telephone number (202) 720-9554, Facsimile (202) 720-0810.

SUPPLEMENTARY INFORMATION:

Background

The Rural Utilities Service (RUS) published in the Federal Register on January 30, 2003, at 68 FR 4684, a final rule amending its regulations in order to establish the Rural Broadband Access Loan and Loan Guarantee Program as authorized by the Farm Security and Rural Investment Act of 2002 (Pub. L. 101-171) (2002 Act). Section 6103 of the Farm Security and Rural Investment Act of 2002 amended the Rural Electrification Act of 1936, as amended (RE Act), to add Title VI, Rural Broadband Access, to provide loans and loan guarantees to fund the cost of construction, improvement, or acquisition of facilities and equipment for the provision of broadband service in eligible rural communities.

The direct final rule amended § 1738.2, Definitions, to conform the rule to substantive changes in authority. The definition for “eligible rural community” in section 601(b)(2) of the Rural Electrification Act of 1936 (7 U.S.C. 950bb(b)(2)) was amended on January 23, 2004, by section 772 of Pub. L. 108-199, of the Consolidated Appropriations Act, 2004 to eliminate the requirement that a community exist outside a standard metropolitan statistical area. The rule incorporated language of the revised statute and explained RUS” interpretation of the language.

Confirmation of Effective Date

This is to confirm the effective date of May 19, 2005, for the direct final rule, 7 CFR 1738, Rural Broadband Access Loans and Loan Guarantees, published in the Federal Register on April 4, 2005.

Dated: May 26, 2005.
Curtis M. Anderson,
Acting Administrator, Rural Utilities Service.

[FR Doc. 05-11137 Filed 6-3-05; 8:45 am]

BILLING CODE 3410-15-P